DEPARTMENT OF HEALTH AND HUMAN SERVICES

Food and Drug Administration

21 CFR Part 1

[Docket No. 2002N-0278]

Prior Notice of Imported Food Under the Public Health Security and Bioterrorism Preparedness and Response Act of 2002; Correction

ACTION: Interim final rule; correction.

SUMMARY: The Food and Drug Administration (FDA) is correcting an interim final rule that appeared in the Federal Register of October 10, 2003 (68 FR 58974). The document issued an interim final regulation that requires the submission to FDA of prior notice of food, including animal feed, that is imported or offered for import into the United States. The document was published with some errors. This document corrects those errors.

DATES: Effective February 2, 2004.

FOR FURTHER INFORMATION CONTACT: Deborah Ralston, Office of Regulatory Affairs, Office of Regional Operations, Food and Drug Administration, 5600 Fishers Lane, Rockville, MD 20857, 301-443-6230.

SUPPLEMENTARY INFORMATION: In FR Doc. 03-25877, appearing on page 58974 in the Federal Register of Friday, October 10, 2003, the following corrections are made:

§ 1.276 [Corrected]

1. On page 59070, in the third column, in § 1.276(b)(3), at the end of the sentence, remove the phrase “in which the article will be mail” and replace it with the phrase “from which the article is mailed”.

§ 1.279 [Corrected]

2. On page 59072, in the first column, in § 1.279(f), in the first sentence, after “A copy of the confirmation”, insert a comma.

§ 1.280 [Corrected]

3. On page 59072, in the first column, in § 1.280(a), in the fourth sentence, remove the phrase “paragraph (d) of this section applies” and replace it with the phrase “paragraphs (c) and (d) of this section apply”.

4. On page 59072, in the first column, in § 1.280(c), in the first sentence, remove the phrase “and FDA Web site at http://www.fda.gov—see Prior Notice” and replace it with the phrase “or http://www.cfsan.fda.gov/~furls/fisstat.html, whichever FDA determines is available” and, in the third sentence, remove the phrase “is listed at http://www.fda.gov—see Prior Notice—PN System Interface” and replace it with the phrase “will be listed at http://www.access.fda.gov or http://www.cfsan.fda.gov/~furls/fisstat.html, whichever FDA determines is available”.

5. On page 59072, in the second column, in § 1.280(d), in the first sentence, remove the phrase “http://www.fda.gov” and replace it with the phrase “http://www.cfsan.fda.gov/~fulrs/fisstat.html” and, in the third sentence, remove the phrase “is listed at http://www.fda.gov—see Prior Notice” and replace it with the phrase “will be listed at http://www.access.fda.gov or http://www.cfsan.fda.gov/~furls;fisstat.html, whichever FDA determines is available”.

§ 1.281 [Corrected]

6. On page 59072, in the third column, in § 1.281(a)(6), in the second sentence, remove the comma after the word “storage”.

7. On page 59072, in the third column, in § 1.281(a)(7), in the second sentence remove the comma after “consolidated” and insert the phrase “and the submitter does not know” after the phrase “if the article has been consolidated”.

8. On page 59072, in the third column, in § 1.281(a)(9), in the second sentence, remove the comma after the word “storage”.

9. On page 59072, in the third column, in § 1.281(a)(12), in the third sentence, remove the word “owner” and replace it with the word “importer”.

10. On page 59073, in the first column, in § 1.281(a)(13), in the third sentence, remove the word “importer” and replace it with the word “owner”.

11. On page 59073, in the first column, in § 1.281(b), italicize the phrase “Articles arriving by international mail”.

12. On page 59073, in the second column, in § 1.281(b)(6), remove the comma after “consolidated” and insert the phrase “and the submitter does not know” after the phrase “if the article has been consolidated”.

13. On page 59073, in the third column, in § 1.281(c), in the third full sentence, remove “§ 1.283(a)(ii)” and replace it with “§ 1.283(a)(1)(ii)”.

14. On page 59074, in the first column, in § 1.281(c)(7), in the second sentence, remove the comma after the word “consolidated” and insert the phrase “and the submitter does not know” after the phrase “if the article has been consolidated”.

15. On page 59074, in the first column, in § 1.281(c)(13), in the first sentence, remove the phrase “if different from the owner” and replace it with the phrase “if different from the importer” and in the third sentence, remove the word “owner” and replace it with the word “importer”.

§ 1.283 [Corrected]

16. On page 59075, in the first column, in § 1.283(a)(1)(ii), in the second sentence, insert the word “of” after the word “port” the second time it appears.

17. On page 59075, in the first column, in § 1.283(a)(3), in the first sentence, remove the word “underhold” and replace it with the words “under hold” and revise the second sentence to read “This segregation must take place where the article is held”.

18. On page 59075, in the second column, in § 1.283(a)(6), in the first full sentence, remove the phrase “paragraph (a)(7)” and replace it with the phrase “paragraph (a)(5)”.

19. On page 59075, in the second column, in § 1.283(b), in the second full sentence, after the word “individual”, insert the words “does not”and remove the word “shall” and replace it with “may”.

20. On page 59075, in the second column, in § 1.283(c), italicize the paragraph heading “Post-Refusal Prior Notice Submissions”.

21. On page 59075, in the second column, in § 1.283(d), italicize the paragraph heading “FDA Review After Refusal”.

22. On page 59075, in the second column, in § 1.283(d)(1), in the first sentence, remove “§ 1.276(b)(4)” and replace it with “§ 1.276(b)(5)”.

23. On page 59075, in the third column, in § 1.283(e), italicize the phrase “International Mail” and, in the second sentence, remove “section 801(m)” and replace it with “section 801(m)(1)”.

§ 1.284 [Corrected]

24. On page 59076, in the first column, in § 1.284(b)(1), capitalize the first letter of the word “federal”.

§ 1.285 [Corrected]

25. On page 59076, in the second column, in § 1.285(b), insert the phrase “under section 801(l) of the act” after the word “hold”.

26. On page 59076, in the second column, in § 1.285(d), in the paragraph heading, remove the word “refused” and replace it with the word “held”; in the first sentence, insert the phrase “of the act” after the phrase “section 801(l)” and delete the phrase “of the act” after the word “hold”; and, in the second sentence, revise the phrase “within the port of arrival where the article is held, if different” to read “where the article is held”.

27. On page 59076, in the second column, in § 1.285(f), in the heading, remove the word “refusal” and replace it with the word “hold”.

28. On page 59076, in the second column, in § 1.285(g), in the first sentence, remove the phrase “subsection (g)” and replace it with the phrase “subsection (f)”.

29. On page 59076, in the third column, in § 1.285(i)(1), insert the word “after” following the words “the facility must be registered and”.

30. On page 59076, in the third column, in § 1.285(j)(1), in the first sentence, insert the phrase “of the act” after the phrase “section 801(l)”.

31. On page 59076, in the third column, in § 1.285(j)(3), remove the phrase “see Prior Notice” and replace it with the phrase “see Food Facility Registration”.

32. On page 59077, beginning in the second column, in § 1.285(l)(1) and (2), remove the phrase “refused under section 801(m)(1)”, where it appears, and replace it with the phrase “placed under hold under section 801(l)” and remove the phrase “refused admission under section 801(m)(1)”, where it appears, and replace it with the phrase “subject to hold under section 801(l)”.

Dated: January 17, 2004.
Jeffrey Shuren,
Assistant Commissioner for Policy.

[FR Doc. 04-1592 Filed 1-30-04; 8:45 am]

BILLING CODE 4160-01-S